DEPARTMENT OF JUSTICE

Drug Enforcement Administration

Importer of Controlled Substances; Notice of Application; Correction

By Notice dated November 21, 2006, and published in the Federal Register on December 1, 2006, (71 FR 69590), Notice of Application, Hospira, Inc., 1776 North Centennial Drive, McPherson, Kansas 67460-1247, paragraph three should be corrected to read as follows: The company plans to import Remifentanil for use in dosage form manufacturing.

Dated: January 5, 2007.
Joseph T. Rannazzisi,
Deputy Assistant Administrator, Office of Diversion Control, Drug Enforcement Administration.

[FR Doc. E7-309 Filed 1-11-07; 8:45 am]

BILLING CODE 4410-09-P